DEPARTMENT OF THE INTERIOR

Office of the Secretary

[16XD4523WK,DS61200000,DWK000000.000000,DP61201GS000116]

U.S. Coral Reef Task Force; Public Meeting and Public Comment

AGENCY: Office of the Secretary, Interior.

ACTION: Notice of public meeting; request for public comment.

SUMMARY: We, the U.S. Department of the Interior, announce a public meeting of the U.S. Coral Reef Task Force and a request for written comments. This meeting, the 39th biannual meeting of the task force, provides a forum for coordinated planning and action among Federal agencies, State and territorial governments, and nongovernmental partners.

DATES: The meeting will be held on Thursday, February 22, 2018, from 08:30 a.m. to 5:00 p.m.

Submit advance public comments by January 29, 2018. Submit requests for copies of comments given at the meeting by March 30, 2018.

ADDRESSES: Meeting will be held at the Department of Interior, Main Interior Building, 1849 C Street NW, Washington, DC 20240.

Submit advance public comments or requests for copies of comments given at the meeting to Liza Johnson, U.S. Coral Reef Task Force Steering Committee Co-Chair, U.S. Department of the Interior, MS-3530-MIB, 1849 C Street NW, Washington, DC 20240; or via email to liza_m_johnson@ios.doi.gov; or fax to (202) 208-4867.

FOR FURTHER INFORMATION CONTACT: Liza Johnson, U.S. Coral Reef Task Force Steering Committee Co-Chair, U.S. Department of the Interior, MS-3530-MIB, 1849 C Street NW, Washington, DC 20240 (phone: 202-208-1378; fax: 202-208-4867; email: liza_m_johnson@ios.doi.gov); or visit the U.S. Coral Reef Task Force website at www.coralreef.gov.

SUPPLEMENTARY INFORMATION: Established by Presidential Executive Order 13089 in 1998, the U.S. Coral Reef Task Force has a mission to lead, coordinate, and strengthen U.S. government actions to better preserve and protect coral reef ecosystems. The Departments of Commerce and the Interior co-chair the Task Force, whose members include leaders of 12 Federal agencies, 2 U.S. States, 5 U.S. territories, and 3 freely associated States. For more information about the meetings, draft agendas, and how to register, go to www.coralreef.gov. A written summary of the meeting will be posted on the website after the meeting.

Registration To Attend the Meeting

Attendees can register online before the start of the meeting, or on site at the registration desk. Registration details will be announced on the task force website at www.coralreef.gov.

Public Comments

Comments may address the meeting, the role of the U.S. Coral Reef Task Force, or general coral reef conservation issues. Advance public comments should be submitted by January 29, 2018. Copies of comments given at the meeting can be submitted afterwards in writing to Liza Johnson by email, fax, or mail (see FOR FURTHER INFORMATION CONTACT) by March 30, 2018.

Public Availability of Comments

Before including your address, phone number, email address, or other personal identifying information in your comment, you should be aware that your entire comment—including your personal identifying information—may be made publicly available at any time. While you can ask us in your comment to withhold your personal identifying information from public review, we cannot guarantee that we will be able to do so.

Shawn Buckner,
Acting Director, Office of Policy Analysis, U.S. Department of the Interior.

[FR Doc. 2018-00398 Filed 1-11-18; 8:45 am]

BILLING CODE 4334-63-P